NATIONAL SCIENCE FOUNDATION

Advisory Committee for Education and Human Resources; Notice of Meeting

In accordance with the Federal Advisory Committee Act (Pub. L. 92-463, as amended), the National Science Foundation announces the following meeting:

Name: Advisory Committee for Education and Human Resources (#1119).

Date/Time: April 19, 2016; 8:00 a.m.-5:00 p.m., April 20, 2016; 8:00 a.m.-1:00 p.m.

Place: National Science Foundation, 4201 Wilson Boulevard, Room 375, Arlington, VA 22230.

Operated assisted teleconference is available for this meeting. Call 877-612-4835 with password AC MEETING and you will be connected to the audio portion of the meeting.

To attend the meeting in person, all visitors must contact the Directorate for Education and Human Resources (ehr_ac@nsf.gov) at least 24 hours prior to the teleconference to arrange for a visitor's badge. All visitors must report to the NSF visitor desk located in the lobby at the 9th and N. Stuart Streets entrance at 4201 Wilson Blvd. on the day of the teleconference to receive a visitor's badge.

Meeting materials and minutes will also be available on the EHR Advisory Committee Web site at http://www.nsf.gov/ehr/advisory.jsp.

Type of Meeting: Open, Teleconference.

Contact Person: Keaven M. Stevenson, National Science Foundation, 4201 Wilson Boulevard, Room 805, Arlington, VA 22230; (703) 292-8600; email: kstevens@nsf.gov.

Purpose of Meeting: To provide advice with respect to the Foundation's science, technology, engineering, and mathematics (STEM) education and human resources programming.

Agenda

Tuesday, April 19, 2016; 8:00 a.m.-5:00 p.m.

• Remarks by the Committee Chair and NSF Assistant Director for Education and Human Resources (EHR)

• The Mutual Relationship Between STEM and STEM Education Research

• Discussion:

○ A View from the Field: The Mutual Relationship Between STEM and STEM Education Research

○ A View from NSF Program Officers: The Mutual Relationship Between STEM and STEM Education Research

• Discussion of the Open Education Resources/Intellectual Product Subcommittee

• Discussion: Open Challenges and Opportunities from the Strategic Re-envisioning for the Education and Human Resources Directorate Report

• Meeting with Dr. France Córdova, NSF Director

Wednesday, April 20, 2016; 8:00 a.m.-1:00 p.m.

• Discussion: NSF INCLUDES

• Presentation on NSF Public Access Policy

• Committee of Visitors Report and Updates from Program

• Adjournment

Dated: March 7, 2016.
Crystal Robinson,
Committee Management Officer.

[FR Doc. 2016-05394 Filed 3-9-16; 8:45 am]

BILLING CODE 7555-01-P